DEPARTMENT OF TRANSPORTATION

Pipeline and Hazardous Materials Safety Administration

[Docket No. PHMSA-2007-0039]

Gulf South/Boardwalk Pipeline Partners; Pipeline Safety: Request for Special Permit

AGENCY: Pipeline and Hazardous Materials Safety Administration (PHMSA); DOT.

ACTION: Notice.

SUMMARY: PHMSA is publishing this notice to invite public comment on a request received from the Gulf South Pipeline Company for a special permit seeking relief from compliance with certain requirements in the Federal pipeline safety regulations. At the conclusion of the 30-day comment period, PHMSA will review the comments received on this notice as part of its evaluation to grant or deny the special permit request.

DATES: Submit any comments regarding this special permit request by April 25, 2018.

ADDRESSES: Comments should reference the docket number for the specific special permit request and may be submitted in the following ways:

• E-Gov website: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue SE, Washington, DC 20590.

• Hand Delivery: Docket Management System: U.S. Department of Transportation, Docket Operations, M-30, West Building Ground Floor, Room W12-140, 1200 New Jersey Avenue SE, Washington, DC 20590, between 9:00 a.m. and 5:00 p.m., Monday through Friday, except Federal holidays.

Instructions: You should identify the docket number for the special permit request you are commenting on at the beginning of your comments. If you submit your comments by mail, please submit two copies. To receive confirmation that PHMSA has received your comments, please include a self-addressed stamped postcard. Internet users may submit comments at http://www.Regulations.gov.

Privacy Act Statement: DOT may solicit comments from the public regarding certain general notices. DOT posts these comments, without edit, including any personal information the commenter provides, to www.regulations.gov, as described in the system of records notice (DOT/ALL-14 FDMS), which can be reviewed at www.dot.gov/privacy.

FOR FURTHER INFORMATION CONTACT:

General: Ms. Kay McIver by telephone at 202-366-0113, or email at Kay.McIver@dot.gov.

Technical: Mr. Steve Nanney by telephone at 713-628-7479, or email at Steve.Nanney@dot.gov.

SUPPLEMENTARY INFORMATION: On February 27, 2009, PHMSA issued a special permit (PHMSA-2007-0039) to Gulf South Pipeline Company (GSPC) for the 30-inch diameter transmission pipeline (TPL-880) pipeline located in Mobile County, Alabama. Due to several Class 1 to Class 3 location change of several areas within a 10.8-mile segment on the TPL-880 pipeline, GSPC petitioned PHMSA for an extension of the previously issued special permit.

The line transports natural gas from the Gulf of Mexico to other pipelines located in Alabama. The special permit inspection area includes 22 miles of the TPL-880 pipeline, extending from the beginning of the line at Station Number 0+00 to the pig trap at Airport Compressor Station Number 1201+68. The new permit request is located within the existing inspection area of Special Permit PHMSA-2007-0039, extends from Station Number 632+60 to Station Number 1201+68, is 10.8 miles long, and is in a suburban area of farm, pasture, and woodland. The current maximum allowable operation pressure (MAOP) for the TPL-880 is 1,073 psig. In the special permit request, GSPC seeks to waive compliance from the requirements of 49 CFR 192.611(a), which requires the pressure reduction, pressure testing, or pipe replacements to address class location changes when the MAOP of a segment of pipeline is not commensurate with the new class location. Condition #26 of the existing special permit PHMSA-2007-0039, allows extensions of the original special permit segments to include contiguous segments of the TPL-880 pipeline up to the limits of the special permit inspection area. GSPC requests one special permit to extend over all three existing special permit segments located on the TPL-880 in Mobile County, Alabama, where the class location has changed from Class 1 to Class 3, and to include additional areas that may experience further development and class change in the future. As described in this application, GSPC proposes to apply alternative risk control measures to the 10.8-mile segment of TPL-880 to provide an acceptable margin of safety and environmental protection to meet the requirements of § 192.611, as outlined in the proposed special permit conditions.

A combined Draft Environmental Assessment (DEA) and proposed Finding of No Significant Impact (FONSI), proposed special permit conditions, and supporting documentation are available at http://www.Regulations.gov, in Docket Number, PHMSA-2007-0039. We invite interested persons to participate by reviewing the special permit request, DEA and proposed FONSI documents at http://www.Regulations.gov, and by submitting written comments, data, or other views. Please include any comments on potential safety and environmental impacts that may result if the special permit is granted.

Before issuing a decision on the special permit request, PHMSA will evaluate all comments received at the close of the comment period. Comments received after the close of the comment period will be evaluated if it is possible to do so without incurring additional expense or delay. PHMSA will consider each relevant comment we receive in making our decision to grant or deny a request.

Issued in Washington, DC, on March 20, 2018, under authority delegated in 49 CFR 1.97.
Alan K. Mayberry,
Associate Administrator for Pipeline Safety.

[FR Doc. 2018-05982 Filed 3-23-18; 8:45 am]

BILLING CODE 4910-60-P